DEPARTMENT OF STATE

22 CFR Part 22

[Public Notice: 12091]

RIN 1400-AF33

Schedule of Fees for Consular Services—Nonimmigrant and Special Visa Fees

AGENCY: Department of State.

ACTION: Final rule; delay of effective date.

SUMMARY: The Department of State (the Department) is delaying the effective date of a final rule that appeared in the Federal Register on March 28, 2023, to provide for a 60-day delay in the effective date after receipt of the final rule in the Congress.

DATES: The effective date of the rule amending 22 CFR part 22 published at 88 FR 18243, March 28, 2023, is delayed until June 17, 2023.

FOR FURTHER INFORMATION CONTACT: Johanna Cruz, Management Analyst, Office of the Comptroller, Bureau of Consular Affairs, Department of State; phone: 202-485-8915; email: fees@state.gov.

SUPPLEMENTARY INFORMATION: The Government Accountability Office (GAO) has informed the Department that the report prepared pursuant to the Congressional Review Act, 5 U.S.C. 801 et seq., was not delivered to the U.S. Senate until April 17, 2023 (the reports to the House of Representatives and GAO were delivered on March 29, 2023). Accordingly, the Department is correcting the final rule to provide for an effective date of June 17, 2023. See 5 U.S.C. 801(a)(3).

Kevin E. Bryant,
Deputy Director, Office of Directives Management, U.S. Department of State.

[FR Doc. 2023-11420 Filed 5-25-23; 8:45 am]

BILLING CODE 4710-06-P